DEPARTMENT OF THE INTERIOR

National Park Service

Abbreviated Final Environmental Impact Statement/Comprehensive Management Plan; Ala Kahakai National Historic Trail, Hawaii County, HI; Notice of Availability

Summary: Pursuant to § 102(2)(c) of the National Environmental Policy Act of 1969 (Pub. L. 91-190, as amended), and the Council on Environmental Quality Regulations (CEQ) (40 CFR Part 1500-1508), the National Park Service, Department of the Interior, has prepared an abbreviated final environmental impact statement for the proposed Comprehensive Management Plan for the Ala Kahakai National Historic Trail (NHT) located on the island of Hawaii. Three CMP alternatives are identified and analyzed relative both to NPS planning requirements and to the public's concerns and issues identified during the scoping and public involvement process (in addition to a no-action alternative, an environmentally preferred alternative is also identified). Each alternative presents administrative, management, and partnership strategies for resource protection and preservation, education and interpretation, visitor uses and facilities, and long-term operations and management of the national trail. The potential environmental consequences of all the alternatives, and appropriate mitigation strategies, are identified and analyzed.

Background: On April 4, 2003, the Federal Register published the Notice of Intent to prepare an environmental impact statement (EIS) for the comprehensive management plan (CMP) for the Ala Kahakai National Historic Trail. The initial scoping phase was designed to proactively elicit public issues, concerns, and other relevant information deemed necessary to address during the overall planning. A total of 200 people representing the general public, private landowners, trail advocacy groups, Native Hawaiian organizations, and state, county, and federal agencies participated overall. Several public meetings around the island were hosted (about 25 comment forms were returned to the trail office). In addition, the NPS planning team met with numerous individuals, community groups, private landowners, and government agency representatives to understand their concerns and visions for the Ala Kahakai NHT. The scoping phase extended through June 28, 2003.

The NPS encouraged public involvement during two additional phases of the EIS process. In the second phase, the NPS engaged the public in developing preliminary alternatives intended to address the specific issues and concerns that surfaced during the public scoping. Nine public workshops were held around the island of Hawaii.

The third phase of involvement afforded the opportunity for public review of the Draft EIS/CMP, notice of which appeared in the Federal Register on October 26, 2007. Government entities and the public were invited to submit comments by regular mail, e-mail, fax, and online. In addition, the NPS held seven public meetings on the island of Hawaii in November 2007 to provide further opportunity to learn about the proposed plan and to offer comments; over 90 people attended these meetings. The formal comment period closed on December 31, 2007, although the NPS received several comments during the next two weeks. Aside from approximately 83 individual statements recorded on the meeting flip charts and 21 comment sheets completed at the meetings, the NPS received 40 written communications. No comments received from interested individuals and groups, area residents and businesses, and public agencies required the NPS to add other alternatives, significantly alter existing alternatives, or make changes to the impact analysis of the effect of any alternative. Thus, an abbreviated format is used to fully document all responses to comments in the Final CMP/EIS in compliance with the CEQ implementing regulations (40 CFR 1503.4[c]) for the National Environmental Policy Act.

Proposed Plan and Alternatives: Alternative A, the No Action Alternative, assumes that existing programs, facilities, staffing, and funding would generally continue at their current levels. The Ala Kahakai NHT would consist of trail segments within the four national parks through which it passes and only a few other segments (e.g., on state lands). As recommended in the Ala Kahakai National Trail Study and Environmental Impact Statement, January 1998, (Feasibility Study) on which national trail status was based, a continuous trail would be the goal but would not be implemented, even in the long-term. However, an auto tour would be completed that would lead visitors to 18 sites associated with the trail. Recreation along the trail and interpretation of its history would generally be limited to these sites.

Alternative B proposes the completion of a single continuous trail comprised of unaltered or verified ancient and historic portions of the ala loa (coastal trail around the island) linked as needed by later pre-1892 trails, pathways, and modern connector trails. Within the planning period of 15 years, the goal would be to complete the linear trail within the priority zone from Kawaihae through Pu'uhonua o Honaunau National Park to Ho'okena and to protect other segments outside of that area as feasible. In the long-term, cultural and natural resources along the entire trail tread and agreed upon adjacent areas would be protected and interpreted to the public. The NPS would administer the trail, but management outside of the national parks would remain with the land managing agency or landowner. The NPS would offer technical assistance and limited financial assistance to these management partners. Partnerships with state and county agencies, community organizations, and private individuals would help protect trail resources and provide appropriate trail user services. An auto tour would be completed as in Alternative A.

Alternative C, the NPS proposed action and the “environmentally preferred” alternative, is based on the traditional Hawaiian trail system in which multiple trail alignments within the ahupua'a (mountain to sea land division) are integral to land use and stewardship. The linear trail would be protected as in Alternative B, but on publicly-owned lands the Ala Kahakai NHT includes inland portions of ala loa or other historic trails that run lateral to the shoreline and would be connected to ancient or historic mauka-makai (mountain to sea) trails that would have traditionally been part of the ahupua'a system. As with Alternative B, during the 15-year planning period, the priority zone from Kawaihae to Pu'uhonua o Honaunau National Park through Ho'okena would be the focus of administration and management, but sections outside of that zone would protected as feasible. Through an agreement, the state of Hawaii could convey to the NPS a less-than-fee management interest in trail segments that are state-owned under the Highways Act of 1892 within the Ala Kahakai NHT corridor. The NPS would then be responsible for managing these segments and federal law would fully apply. However, in cooperation with the NPS, local communities of the ahupua'a would be encouraged to take responsibility for trail management using the traditional Hawaiian principles of land management and stewardship. The Ala Kahakai Trail Association would be expected to be robust enough play a major part in trail management, promotion, and funding. An auto tour would be completed similarly as in the other alternatives.

Copies: The abbreviated Final EIS/CMP is now available, and may be obtained by contacting the Superintendent, Ala Kahakai NHT, 73-4786 Kanalani Street, #14, Kailua-Kona, HI 96740 or by telephone at 808-326-6012. Copies of the Draft EIS/CMP are available, if needed. The Final EIS/CMP may also be reviewed electronically via the Web site http://parkplanning.nps.gov/alka or at area libraries.

Decision Process: Following the release of the abbreviated Final EIS/CMP, a Record of Decision will be prepared not sooner than 30 days after the EPA has published its notice of filing of the document in the Federal Register. Announcement of the approved CMP would be similarly published. As a delegated EIS, the official responsible for the final decision is the Regional Director, Pacific West Region, National Park Service. Subsequently, the official responsible for implementing the approved CMP would be the Superintendent, Ala Kahakai National Historic Trail.

Dated: June 13, 2008.
Jonathan B. Jarvis,
Regional Director, Pacific West Region.

Editorial Note: This document was received in the Office of the Federal Register on November 11, 2008.

[FR Doc. E8-26702 Filed 11-7-08; 8:45 am]

BILLING CODE 4312-52-P